DEPARTMENT OF TRANSPORTATION

Federal Aviation Administration

Waiver of Aeronautical Land Use Assurance: Independence Municipal Airport (IDP), Independence, KS

AGENCY: Federal Aviation Administration (FAA), DOT.

ACTION: Notice of intent of waiver with respect to land use change from aeronautical to non-aeronautical.

SUMMARY: The Federal Aviation Administration (FAA) is considering a proposal from the City of Independence, KS, to release a 10.675 acre parcel of land from the federal obligation dedicating it to aeronautical use and to authorize this parcel to be used for revenue-producing, non-aeronautical purposes.

DATES: Comments must be received on or before April 16, 2021.

ADDRESSES: Comments on this application may be mailed or delivered to the FAA at the following address: Amy J. Walter, Airports Land Specialist, Federal Aviation Administration, Airports Division, ACE-620G, 901 Locust Room 364, Kansas City, MO 64106.

In addition, one copy of any comments submitted to the FAA must be mailed or delivered to: Kelly Paussauer, City Manager, City of Independence, 811 W Laurel Street, Independence, KS 67301, (620) 332-2506.

FOR FURTHER INFORMATION CONTACT: Amy J. Walter, Airports Land Specialist, Federal Aviation Administration, Airports Division, ACE-620G, 901 Locust Room 364, Kansas City, MO 64106, Telephone number (816) 329-2603, Fax number (816) 329-2611, email address: amy.walter@faa.gov.

SUPPLEMENTARY INFORMATION: The FAA invites public comment on the request to change a 10.675 acre parcel of airport property at the Independence Municipal Airport (IDP) from aeronautical use to non-aeronautical for revenue producing use. This parcel will be leased to a local gun club.

No airport landside or airside facilities are presently located on this parcel, nor are airport developments contemplated in the future. There is no current use of the surface of the parcel. The parcel will serve as a revenue producing lot with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The Independence Municipal Airport (IDP) is proposing the use release of a 10.675 acre parcel of land from aeronautical to non-aeronautical. The use release of land is necessary to comply with Federal Aviation Administration Grant Assurances that do not allow federally acquired airport property to be used for non-aviation purposes. The rental of the subject property will result in the land at the Independence Municipal Airport (IDP) being changed from aeronautical to non-aeronautical use and release the lands from the conditions of the Airport Improvement Program Grant Agreement Grant Assurances. In accordance with 49 U.S.C. 47107(c)(2)(B)(i) and (iii), the airport will receive fair market rental value for the property. The annual income from rent payments will generate a long-term, revenue-producing stream that will further the Sponsor's obligation under FAA Grant Assurance number 24, to make the Independence Municipal Airport as financially self-sufficient as possible. Following is a legal description of the subject airport property at the Independence Municipal Airport (IDP):

A tract of land located in a portion of the Northeast Quarter of Section 28, Township 33 South Range 15 East of the 6th P.M., Montgomery County, Kansas, being more particularly described as follows: Commencing at the Northeast corner of Section 28; thence S 88°15′13″ W, a distance of 425.67 feet; thence S 01°22′04″ E, a distance of 289.89 feet to the Point of Beginning; thence continuing S 01°22′04″ E, a distance of 620.00 feet; thence S 88°37′56″ W, a distance of 750.00 feet; thence N 01°22′04″ W, a distance of 620.00 feet; thence N 88°37′56″ E, a distance of 750.00 feet to the Point of Beginning. Containing 10.675 acres.

Any person may inspect, by appointment, the request in person at the FAA office listed above. In addition, any person may upon request, inspect the application, notice and other documents determined by the FAA to be related to the application in person at the Independence Municipal Airport.

Issued in Kansas City, MO, on March 11, 2021.
James A. Johnson,
Director, FAA Central Region, Airports Division.

[FR Doc. 2021-05520 Filed 3-16-21; 8:45 am]

BILLING CODE 4910-13-P